DEPARTMENT OF THE INTERIOR

Minerals Management Service

30 CFR Part 206

RIN 1010-AC24

Establishing Oil Value for Royalty Due on Indian Leases

AGENCY: Minerals Management Service (MMS), Interior.

ACTION: Reopening of public comment period and notice of public workshops.

SUMMARY: The MMS is reopening the public comment period on the proposed rule regarding the valuation for royalty purposes of crude oil produced from Indian leases.

DATES: We must receive comments on or before April 14, 2003.

ADDRESSES: Submit written comments directly to Sharron L. Gebhardt, Regulatory Specialist, Minerals Management Service, Mineral Revenue Management, P.O. Box 25165, MS 320B2, Denver, Colorado 80225. If you use an overnight courier service, our courier address is Building 85, Room A-614, Denver Federal Center, Denver, Colorado 80225. You may also e-mail your comments to us at mrm.comments@mms.gov. Also include your name and return address. Submit electronic comments as an ASCII file avoiding the use of special characters and any form of encryption. If you do not receive a confirmation that we have received your e-mail, contact Ms. Gebhardt at (303) 231-3211.

FOR FURTHER INFORMATION CONTACT: Sharron L. Gebhardt, telephone (303) 231-3211, FAX (303) 231-3385, e-mail Sharron.Gebhardt@mms.gov.

SUPPLEMENTARY INFORMATION: The MMS published a notice of proposed rulemaking regarding the value for royalty purposes of crude oil produced from Indian leases on February 12, 1998 (63 FR 7089) and a supplementary proposed rule on January 5, 2000 (65 FR 403). In today's Federal Register, MMS is announcing dates, places, and times for workshops on issues related to the existing rules adopted in March 2000 governing the valuation for royalty purposes of crude oil produced from Federal leases.

The workshops will address, among other things, issues related to calculation of transportation allowances (including the rate of return allowed for calculating actual costs under non-arm's-length transportation arrangements), timing and application of published index prices, and calculation of location and quality differentials under certain circumstances.

Because of the substantive overlap between these issues and issues involved in the proposed Indian oil valuation rule, and to give persons interested in Indian lease issues an opportunity to participate in the workshops, MMS is reopening the comment period on the proposed Indian oil valuation rule for 60 days so it can include in the record any relevant comments received. The MMS then can consider those comments as it proceeds with the Indian oil valuation rule.

The policy of the Department of the Interior is to give the public an opportunity to participate in the rulemaking process. Accordingly, you may submit your written comments, suggestions, or objections regarding this notice to the location identified in the ADDRESSES section of this notice. You should submit comments on or before the date identified in the DATES section of this notice.

We will also make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

Dated: February 5, 2003.
Lucy Querques Denett,
Associate Director for Minerals Revenue Management.

[FR Doc. 03-3466 Filed 2-11-03; 8:45 am]

BILLING CODE 4310-MR-P